DEPARTMENT OF THE INTERIOR

Bureau of Land Management

[LLCON06000-L17110000-XX0000]

Notice of Resource Advisory Council Meeting for the Dominguez-Escalante Advisory Council

AGENCY: Bureau of Land Management, Interior.

ACTION: Notice of public meeting.

SUMMARY: In accordance with the Federal Land Policy and Management Act of 1976 and the Federal Advisory Committee Act of 1972, the U.S. Department of the Interior, Bureau of Land Management (BLM) Dominguez-Escalante Advisory Council (Council) will meet as indicated below. Future meetings will be scheduled at a later date.

DATES: Meetings will be held February 2, 2011; March 2, 2011; April 6, 2011; and May 4, 2011. All meetings will begin at 3 p.m. and will continue until 6 p.m.

ADDRESSES: The February 2 and April 6 meetings will be held at the Mesa County Courthouse Annex, Training Room A, 544 Rood, Grand Junction, Colorado. The March 2 and May 4 meetings will be held at the Delta Performing Arts Center, 822 Grand Ave., Delta, Colorado.

FOR FURTHER INFORMATION CONTACT: Katie Stevens, Advisory Council Designated Federal Official, 2815 H Road, Grand Junction, CO 81506. Phone: (970) 244-3049. E-mail: kasteven@blm.gov.

SUPPLEMENTARY INFORMATION: The 10-member Council advises the Secretary of the Interior, through the BLM, on a variety of planning and management issues associated with the resource management planning process for the Dominguez-Escalante National Conservation Area and Dominguez Canyon Wilderness.

Topics of discussion during the meeting may include informational presentations from various resource specialists working on the resource management plan, as well as Council reports relating to the following topics: recreation, fire management, land-use planning process descriptions, invasive species management, travel management, wilderness, land exchange criteria, cultural resource management, and other resource management topics of interest to the Council raised during the planning process.

These meetings are anticipated to occur monthly, and may occur as frequently as every two weeks during intensive phases of the planning process. Dates, times and agendas for additional meetings may be determined at future Advisory Council Meetings, and will be published in the Federal Register, announced through local media and on the BLM's Web site for the Dominguez-Escalante planning effort, http://www.blm.gov/co/st/en/nca/denca/denca_rmp.html.

These meetings are open to the public. The public may present written comments to the Council. Each formal Council meeting will have time allocated at the beginning and end of each meeting for hearing public comments. Depending on the number of persons wishing to comment and time available, the time for individual, oral comments may be limited at the discretion of the chair.

Dated: January 10, 2011.
Helen M. Hankins,
State Director.

[FR Doc. 2011-865 Filed 1-14-11; 8:45 am]

BILLING CODE 4310-JB-P